DEPARTMENT OF HEALTH AND HUMAN SERVICES

Health Care Financing Administration

[HCFA-2118-CN]

Medicare, Medicaid, and CLIA Programs; Continuance of the Approval of COLA as a CLIA Accreditation Organization; Correction

AGENCY: Health Care Financing Administration (HCFA), HHS.

ACTION: Correction notice.

SUMMARY: In the October 31, 2000 issue of the Federal Register (65 FR 64966), we published a notice announcing the continued approval of COLA (formerly the Commission on Office Laboratory Accreditation) as an accreditation organization for laboratories under the Clinical Laboratory Improvement Amendments of 1988 (CLIA) program. This document corrects a technical error that appeared in that document.

EFFECTIVE DATE: The notice published on October 31, 2000 (64 FR 64966) is effective for the period October 31, 2000 through December 31, 2002.

FOR FURTHER INFORMATION CONTACT: Val Coppola, (410) 786-3531.

SUPPLEMENTARY INFORMATION:

I. Background

In FR Doc. 00-27956 of October 31, 2000 (65 FR 64966), there was one technical error. The error relates to our inadvertently placing an incorrect effective date in section II (Notice of Continued Approval of COLA as an Accreditation Organization) of the Federal Register document. That date is inconsistent with the correct effective date, as presented in the EFFECTIVE DATE section of the October 31, 2000 notice.

II. Correction of Error

In FR Doc. 00-27956 of October 31, 2000 (65 FR 64966), make the following correction:

On page 64966, in the third column, in the first full paragraph, remove “August 31, 2002” and in its place add “December 31, 2002”.

Authority: Section 353 of the Public Health Service Act (42 U.S.C. 263a).

Dated: November 17, 2000.
Brian P. Burns,
Deputy Assistant Secretary for Information Resources Management.

[FR Doc. 00-29992 Filed 11-22-00; 8:45 am]

BILLING CODE 4120-01-M